DEPARTMENT OF AGRICULTURE

Forest Service

Notice of Meeting; Federal Lands Recreation Enhancement Act, (Title VIII, Pub. L. 108-447)

AGENCY: Pacific Northwest Region, Forest Service, U.S. Department of Agriculture.

ACTION: Notice of Meeting.

SUMMARY: The Pacific Northwest Recreation Resource Advisory Committee (Recreation RAC) will hold its first meeting April 2007 in Portland, Oregon. The purpose of this initial meeting is to develop the process for making recommendations on recreation fee proposals for facilities and services offered on lands managed by the Forest Service and Bureau of Land Management in Oregon and Washington.

DATES: The meeting will be held on April 11, 2007 from 8:30 a.m.-5 p.m. and April 12, 2007 from 8:30 a.m.-4 p.m.

ADDRESSES: The meeting will be at the Double Tree Hotel, Lloyd Center, 1000 NE Multnomah St., Portland, Oregon 97232. Send written comments to Dan Harkenrider, PNW Recreation RAC Designated Federal Official, 902 Wasco Street, Suite 200, Hood River, OR 97031, 541-308-1700 or dharkenrider@fs.fed.us.

FOR FURTHER INFORMATION CONTACT: Dan Harkenrider, PNW Recreation RAC Designated Federal Official, 902 Wasco Street, Suite 200, Hood River, OR 97031, 541-308-1700.

SUPPLEMENTARY INFORMATION: The meeting is open to the public. This initial meeting will be an information meeting and overview of current Pacific Northwest Recreation Fee Programs for the Forest Service and BLM. Recreation RAC discussion is limited to Forest Service and Bureau of Land Management staff and Recreation RAC members. However, persons who wish to bring recreation fee matters to the attention of the Recreation RAC may file written statements with the Designated Federal Official before or after the meeting. A public input session will be provided during the meeting and individuals who wish to address the Recreation RAC will have an opportunity at 2 p.m. both days of the meeting. Comments will be limited to three minutes per person. The Recreation RAC is authorized by the Federal Land Recreation Enhancement Act, which was signed into law by President Bush in December 2004.

Dated: March 1, 2007.
Linda Goodman,
Regional Forester, Pacific Northwest Region.

[FR Doc. 07-1054 Filed 3-6-07; 8:45 am]

BILLING CODE 3410-11-M